DEPARTMENT OF EDUCATION

Safe and Drug-Free Schools and Communities Advisory Committee

AGENCY: Office of Safe and Drug-Free Schools.

ACTION: Notice of Open Meeting.

SUMMARY: This notice sets forth the schedule and proposed agenda of an upcoming open meeting of The Safe and Drug-Free Schools and Communities Advisory Committee. The notice also describes the functions of the Committee. Notice of this meeting is required by section 10(a)(2) of the Federal Advisory Committee Act and is intended to notify the public of their opportunity to attend.

DATES: Monday, March 19, 2007.

Time: 8 a.m. to 6 p.m.

ADDRESSES: The Committee will meet at the U.S. Department of Education, 400 Maryland Avenue, SW., Washington, DC.

FOR FURTHER INFORMATION CONTACT: Catherine Davis, Executive Director, The Safe and Drug-Free Schools and Communities Advisory Committee, Room 1E110B, 400 Maryland Avenue, SW., Washington, DC, telephone: (202) 205-4169, e-mail: OSDFSC@ed.gov.

SUPPLEMENTARY INFORMATION: The Committee was established to provide advice to the Secretary on Federal, State, and local programs designed to create safe and drug-free schools, and on issues related to crisis planning. The focus of this meeting is to discuss the findings and recommendations on three topics given to the Committee by the Secretary of Education: the Safe and Drug-Free Schools and Communities State Grants Program, the Unsafe School Choice Option, and data requirements under the Safe and Drug-Free Schools and Communities Act. Further, the Committee will begin to outline its findings and recommendations for the final report to the Secretary of Education due June 30, 2007.

Individuals who need accommodations for a disability in order to attend the meeting (e.g., interpreting services, assistive listening devices or materials in alternative formats) should notify Catherine Davis at OSDFSC@ed.gov. or (202) 205-4169 no later than March 12, 2007. We will attempt to meet requests for accommodations after this date but cannot guarantee their availability. The meeting site is accessible to individuals with disabilities.

Individuals interested in attending the meeting must register in advance because limited space is available at the meeting site. Please notify Catherine Davis at OSDFSC@ed.gov or (202) 205-4169 of your intention to attend the meeting.

Opportunities for public comment are available on March 19 from 8:05 a.m.-8:40 a.m. on a first come, first served basis. Comments presented at the meeting are limited to 5 minutes in length. Written comments to accompany oral remarks are optional. Five copies of written comments are recommended and should be submitted to the committee Chairman at the meeting.

Request for Written Comments: We invite the public to submit written comments relevant to the focus of the Advisory Committee. We would like to receive written comments from members of the public no later than April 30, 2007. Addresses: Submit all comments to the Advisory Committee using one of the following methods: 1. Internet. We encourage the public to submit comments through the Internet to the following address: OSDFSC@ed.gov. 2. Mail: The public may also submit comments via mail to Catherine Davis, Office of Safe and Drug-Free Schools, U.S. Department of Education, 400 Maryland Avenue, SW., Room 1E110B, Washington, DC 20202. Due to delays in mail delivery caused by heightened security, please allow adequate time for the mail to be received.

Records are kept of all Committee proceedings and are available for public inspection at the staff office for the Committee located at the U.S. Department of Education, 400 Maryland Avenue, SW., Room 1E110B, Washington, DC 20202 between the hours of 9 a.m. to 5 p.m.

Raymond Simon,
Deputy Secretary, U.S. Department of Education.

[FR Doc. 07-950 Filed 3-1-07; 8:45 am]

BILLING CODE 4001-01-M